DEPARTMENT OF COMMERCE

International Trade Administration

[A-580-807]

Polyethylene Terephthalate Film, Sheet and Strip From Korea: Final Results of Antidumping Duty Administrative Review

AGENCY: Import Administration, International Trade Administration, Department of Commerce.

ACTION: Notice of final results of antidumping duty administrative review.

SUMMARY: On May 8, 2000, the Department of Commerce (the Department) published the preliminary results of the administrative review of the antidumping duty order on polyethylene terephthalate film, sheet, and strip (PET film) from the Republic of Korea (65 FR 26574). The review covers three manufacturers/exporters of the subject merchandise to the United States: H.S, Industries (HSI), Hyosung Corporation (Hyosung) and SKC Limited (SKC). The review covers the period June 1, 1998 through May 31, 1999. We gave interested parties an opportunity to comment on the preliminary results.

The final weighted-average dumping margins for the reviewed firms are listed in the section entitled Final Results of Review. As a result of comments received, we have made changes to the final margin calculations for SKC.

EFFECTIVE DATE: September 12, 2000.

FOR FURTHER INFORMATION CONTACT: Michael J. Heaney or Robert James, AD/CVD Enforcement Group III, Office 8, Import Administration, International Trade Administration, U.S. Department of Commerce, 14th Street and Constitution Avenue, NW., Washington, DC 20230; telephone (202) 482-4475 or (202) 482-0649, respectively.

Applicable Statute

Unless otherwise indicated, all citations to the Tariff Act of 1930, as amended (the Tariff Act), are references to the provisions effective January 1, 1995, the effective date of the amendments made to the Tariff Act by the Uruguay Round Agreements Act. In addition, unless otherwise indicated, all citations to the Department's regulations are to the regulations codified at 19 CFR Part 351 (1999).

SUPPLEMENTARY INFORMATION:

Background

On May 8, 2000, the Department published in the Federal Register the preliminary results of administrative review of the antidumping duty order on PET film from Korea. SKC Co., Ltd. and SKC America, Inc. (collectively SKC) and E.I. DuPont de Nemours & Company and Mitsubishi Polyester Film, LLC (collectively Petitioners) submitted their respective case briefs on June 7, 2000. SKC submitted rebuttal comments on June 16, 2000. Petitioners submitted rebuttal comments on June 19, 2000. The Department has conducted this administrative review in accordance with section 751 of the Tariff Act.

Scope of the Review

Imports covered by this review are shipments of all gauges of raw, pretreated, or primed polyethylene terephthalate film, sheet, and strip, whether extruded or coextruded. The films excluded from this review are metallized films and other finished films that have had at least one of their surfaces modified by the application of a performance-enhancing resinous or inorganic layer of more than 0.00001 inches (0.254 micrometers) thick. Roller transport cleaning film which has at least one of its surfaces modified by the application of 0.5 micrometers of SBR latex has also been ruled as not within the scope of the order.

PET film is currently classifiable under Harmonized Tariff Schedule (HTS) subheading 3920.62.00.00. The HTS subheading is provided for convenience and for U.S. Customs purposes. The written description remains dispositive as to the scope of the product coverage.

The review covers the period June 1, 1998 through May 31, 1999. The Department has conducted this review in accordance with section 751 of the Tariff Act.

Analysis of Comments Received

All issues raised in the case and rebuttal briefs are addressed in the “Issues and Decision Memorandum” (Decision Memorandum) from Joseph A. Spetrini, Deputy Assistant Secretary for Import Administration to Troy H. Cribb, Acting Assistant Secretary for Import Administration, dated September 5, 2000 which is adopted by this notice. A list of the issues which parties have raised and to which we have responded, all of which are in the Decision Memorandum, is attached to this notice as an Appendix. Parties can find a complete discussion of all issues raised in this review and the corresponding recommendations in this public memorandum which is on file in the Central Records Unit, room B-099 of the main Commerce building. In addition a complete version of the Decision Memorandum can be accessed directly on the Web at www.ia.ita.doc.gov. The paper copy and electronic version of the Decision Memorandum are identical in content.

Changes Since the Preliminary Results of Review

We have deleted sales of PET film that were subsequently exported from the United States from SKC's U.S. database. Additionally, for purposes of applying the constructed export price (CEP) profit ratio to SKC's indirect U.S. selling expenses, we have applied the CEP profit ratio only to those indirect selling expenses incurred in the United States. Further details regarding these changes can be found in the Decision Memorandum and the SKC September 5, 2000 Final Results Analysis Memorandum, both of which are on file in room B-099 of the main Commerce building.

Final Results of Review

As a result of our analysis of the comments received, we determine that the following margins exist for the period June 1, 1998 through May 31, 1999:

Company | Margin (percent)
HSI | 0.00
Hyosung | 0.00
SKC | 1.23

The U.S. Customs Service will assess antidumping duties on all appropriate entries. The Department will issue appraisement instructions directly to the Customs Service. We have calculated an importer-specific assessment rate for subject merchandise based on the ratio of the total amount of antidumping duties calculated for the examined sales to the total entered value of sales examined.

Furthermore, the following deposit requirements shall be required for all shipments of PET film from the Republic of Korea entered, or withdrawn from warehouse, for consumption on or after the publication date of these final results of this review, as provided by section 751(a)(1) of the Tariff Act: (1) The cash deposit for SKC shall be 1.23 percent; (2) since the rates for HSI and Hyosung are zero no cash deposit shall be required for those firms, (3) for merchandise exported by manufacturers or exporters not covered in this review but covered in the less-than-fair-value (LTFV) investigation or a previous review, the cash deposit will continue to be the most recent rate published in the final determination or final results for which the manufacturer or exporter received a company-specific rate; (4) if the exporter is not a firm covered in this review or the original investigation, but the manufacturer is, the cash deposit rate will be that established for the manufacturer of the merchandise in the final results of the most recent review or the LTFV investigation; and (5) if neither the exporter nor the manufacturer is a firm covered in this or any previous reviews, the cash deposit rate will be 21.50 percent the “all others” rate established in the LTFV investigation. (See Polyethylene Terephthalate Film, Sheet, and Strip from the Republic of Korea: Notice of Final Court Decision and Amended Final Determination, 62 FR 50557, (September 26, 1997).)

This notice serves as the final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective orders (APOs) of their responsibility concerning the disposition of proprietary information disclosed under APO in accordance with 19 CFR 351.305(a). Timely written notification of the return or destruction of APO materials or conversion to judicial protective order is hereby requested.

Failure to comply with the regulations and terms of an APO is a sanctionable violation.

This administrative review and notice is in accordance with section 751(a)(1) of the Tariff Act.

Dated: September 5, 2000.
Troy H. Cribb,
Acting Assistant Secretary for Import Administration.

Appendix—Issues in the Decision Memorandum

1. Accounting for B-grade Film Costs

2. Calculation of CEP Profit

3. Inclusion in SKC's U.S. Sales Listing of Merchandise Subsequently Exported from the United States

4. Calculation of US Indirect Selling Expenses

5. Proper Home Market Comparison for Model DS10.

[FR Doc. 00-23394 Filed 9-11-00; 8:45 am]

BILLING CODE 3510-DS-U